NATIONAL AERONAUTICS AND SPACE ADMINISTRATION

[Notice: 14-073]

NASA Advisory Council; Meeting

AGENCY: National Aeronautics and Space Administration.

ACTION: Notice of Meeting.

SUMMARY: In accordance with the Federal Advisory Committee Act, Public Law 92-463, as amended, the National Aeronautics and Space Administration announces a meeting of the NASA Advisory Council (NAC).

DATES: Wednesday, July 30, 2014, 1:00 p.m.-5:00 p.m., Local Time and Thursday, July 31, 2014, 9:00 a.m.-5:00 p.m., Local Time.

ADDRESSES: NASA Langley Research Center, 5 Langley Boulevard, Building 2101, Room 305, Hampton, VA 23681.

FOR FURTHER INFORMATION CONTACT: Ms. Marla King, NAC Administrative Officer, NASA Headquarters, Washington, DC 20546, 202-358-1148.

SUPPLEMENTARY INFORMATION: The agenda for the meeting will include the following:

—Aeronautics Committee Report

—Human Exploration and Operations Committee Report

—Institutional Committee Report

—Science Committee Report

—Technology, Innovation and Engineering Committee Report

The meeting will be open to the public up to the seating capacity of the room. This meeting is also available telephonically and by WebEx. You must use a touch tone phone to participate in this meeting. Any interested person may dial the access number 1-844-467-6272, and then the numeric participant passcode: 635429 followed by the # sign. To join via WebEx, the link is https://nasa.webex.com/. The meeting number on July 30th, is 995 123 474, and the password is 073014NAC!a . The meeting number on July 31st, is 992 856 785, and the password is 073114NAC!a. (Passwords are case-sensitive.) NOTE: If dialing in, please “mute” your telephone.

Attendees will be requested to sign a register and to comply with NASA Langley Research Center security requirements, including the presentation of a valid picture ID before receiving access to NASA Langley Research Center. Foreign nationals attending this meeting will be required to provide a copy of their passport and visa in addition to providing the following information no less than 10 working days prior to the meeting: full name; gender; date/place of birth; citizenship; visa/green card information (number, type, expiration date); passport information (number, country, telephone); employer/affiliation information (name of institution, address, country, telephone); title/position of attendee. To expedite admittance, attendees with U.S. citizenship and Permanent Residents (green card holders) can provide identifying information 3 working days in advance by contacting Ms. Cheryl Cleghorn at cheryl.w.cleghorn@nasa.gov or 757-864-2497. It is imperative that the meeting be held on this date to accommodate the scheduling priorities of the key participants.

Patricia D. Rausch,
Advisory Committee Management Officer, National Aeronautics and Space Administration.

[FR Doc. 2014-16548 Filed 7-14-14; 8:45 am]

BILLING CODE 7510-13-P